DEPARTMENT OF STATE

[Public Notice 6747]

Culturally Significant Object Imported for Exhibition Determinations: “Luc Tuymans”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the object in the exhibition: “Luc Tuymans,” imported from abroad for temporary exhibition within the United States, is of cultural significance. The object is imported pursuant to a loan agreement with the foreign owner or custodian. I also determine that the exhibition or display of the exhibit object at the Wexner Center for the Arts, Columbus, OH, from on or about September 20, 2009, until on or about January 3, 2010; San Francisco Museum of Modern Art, San Francisco, CA, from on or about February 13, 2010, until on or about May 16, 2010; Dallas Museum of Art, Dallas, TX, from on or about June 13, 2010, until on or about September 6, 2010; Museum of Contemporary Art, Chicago, IL, from on or about October 2, 2010, until on or about January 9, 2011, and at possible additional exhibitions or venues yet to be determined, is in the national interest. Public Notice of these Determinations is ordered to be published in the Federal Register.

FOR FURTHER INFORMATION CONTACT: For further information, including a list of the exhibit object, contact Julie Simpson, Attorney-Adviser, Office of the Legal Adviser, U.S. Department of State (telephone: 202-632-6467). The address is U.S. Department of State, L/PD, SA-5, 2200 C Street, NW., Suite 5H03, Washington, DC 20522-0505.

Dated: August 25, 2009
Maura M. Pally,
Deputy Assistant Secretary for Professional and Cultural Exchanges, Bureau of Educational and Cultural Affairs, Department of State.

[FR Doc. E9-21086 Filed 8-31-09; 8:45 am]

BILLING CODE 4710-05-P